DEPARTMENT OF TRANSPORTATION

Surface Transportation Board

[STB Docket No. AB-565 (Sub-No. 9X); STB Docket No. AB-55 (Sub-No. 611X)]

New York Central Lines, LLC-Discontinuance of Service Exemption-in Allen County, OH; CSX Transportation, Inc.—Discontinuance of Service Exemption-in Allen County, OH

New York Central Lines, LLC (NYC) and CSX Transportation, Inc. (CSXT) have filed a notice of exemption under 49 CFR 1152 Subpart F—Exempt Abandonments and Discontinuances of Service for NYC and CSXT to discontinue service over approximately 0.9 miles of railroad from milepost QFL 51.0 to milepost QFL 51.9 in Lima, Allen County, OH.¹ The line traverses United States Postal Service Zip Code 45804.

¹ Pursuant to Board authorization in 1998, CSX Corporation, CSXT's parent company, and Norfolk Southern Corporation jointly acquired control of Conrail Inc., and its wholly owned subsidiary, Consolidated Rail Corporation (Conrail). As a result of that acquisition, certain assets of Conrail have been assigned to NYC, a wholly owned subsidiary of Conrail, to be exclusively operated by CSXT pursuant to an operating agreement. The line for discontinuance is included among the property being operated by CSXT pursuant to the NYC operating agreement.

NYC and CSXT have certified that: (1) No local traffic has moved over the line for at least 2 years; (2) there is no overhead traffic on the line; (3) no formal complaint filed by a user of rail service on the line (or by a state or local government entity acting on behalf of such user) regarding cessation of service over the line either is pending with the Surface Transportation Board (Board) or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to these exemptions, any employee adversely affected by the discontinuance shall be protected under Oregon Short Line R. Co.—Abandonment-Goshen, 360 I.C.C.91 (1979). To address whether this condition adequately protects affected employees, a petition for partial revocation under 49 U.S.C. 10502(d) must be filed. Provided no formal expression of intent to file an offer of financial assistance (OFA) has been received, these exemptions will be effective on June 18, 2002,² unless stayed pending reconsideration. Petitions to stay that do not involve environmental issues,³ and formal expressions of intent to file an OFA under 49 CFR 1152.27(c)(2),⁴ must be filed by May 28, 2002. Petitions to reopen must be filed by June 6, 2002, with: Surface Transportation Board, Case Control Unit, 1925 K Street, NW., Washington, DC 20423.⁵

² Pursuant to 49 CFR 1150.50(d)(2), the railroad must filed a verified notice with the Board at least 50 days before the abandonment or discontinuance is to be consummated. In its verified notice, applicant did not indicate a consummation date as required. A Board staff member consulted with applicant's representative and applicant's representative has subsequently confirmed that consummation cannot occur before June 18, 2002, 50 days after the April 29, 2002 filing of the verified notice.

³ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

⁴ Each offer of financial assistance must be accompanied by the filing fee, which as of April 8, 2002, is set at $1,100. See 49 CFR 1002.2(f)(25).

⁵ Because these are discontinuance proceedings and abandonment is not proposed, trail use/rail banking and public use conditions are not appropriate.

A copy of any petition filed with the Board should be sent to applicants' representative: Natalie S. Rosenberg, CSX Transportation, Inc., 500 Water Street J150, Jacksonville, FL 32202.

If the verified notice contains false or misleading information, the exemption is void ab initio.

NYC and CSXT have filed an environmental report which addresses the effects, if any, of the discontinuance on the environment and historic resources. SEA will issue an environmental assessment (EA) by May 24, 2002. Interested persons may obtain a copy of the EA by writing to SEA (Room 500, Surface Transportation Board, Washington, DC 20423) or by calling SEA, at (202) 565-1552. [TDD for the hearing impaired is available at 1-800-877-8339.] Comments on environmental and historic preservation matters must be filed within 15 days after the EA becomes available to the public.

Board decisions and notices are available on our website at “WWW.STB.DOT.GOV.”

Decided: May 13, 2002.
By the Board, David M. Konschnik, Director, Office of Proceedings.
Vernon A. Williams,
Secretary.

[FR Doc. 02-12407 Filed 5-16-02; 8:45 am]

BILLING CODE 4915-00-P